DEPARTMENT OF DEFENSE

Office of the Secretary

Meeting To Discuss Gulf War Illness Research

AGENCY: Special Oversight Board for Department of Defense Investigations of Gulf War Chemical and Biological Incidents, Department of Defense.

ACTION: Notice.

SUMMARY: The Board will conduct a three-hour public meeting to receive a presentation by the Special Assistant for Gulf War Illnesses, Medical Readiness, and Military Deployments on the transition of his office from a Gulf War Illness-focused organization to one that also includes a force health protection orientation.

DATES: October 27, 2000.

ADDRESSES: Conference Room, 1401 Wilson Boulevard, Suite 400, Arlington, VA 22209.

FOR FURTHER INFORMATION CONTACT: CONTACT: Sandra Robinson, Administrative Assistant, Special Oversight Board, 1401 Wilson Blvd., Suite 401, Arlington, VA 22209, phone (703) 696-9477, fax (703) 696-4062, or via Email at Gulfsyn@ods.pentagon.mil

SUPPLEMENTARY INFORMATION: The hearing is scheduled from 9 a.m. until no later than 12 p.m. EDT. Seating is limited and will be available on a first-come, first-served basis beginning at 8:45 a.m. EDT.

Dated: October 10, 2000.
L.M. Bynum,
Alternate OSD Federal Register Liaison Officer, Department of Defense.

[FR Doc. 00-26409 Filed 10-13-00; 8:45 am]

BILLING CODE 5001-10-M